DEPARTMENT OF JUSTICE

Antitrust Division

Notice Pursuant to the National Cooperative Research and Production Act of 1993—Undersea Technology Innovation Consortium

Notice is hereby given that, on July 11, 2019, pursuant to Section 6(a) of the National Cooperative Research and Production Act of 1993, 15 U.S.C. 4301 et seq. (“the Act”), Undersea Technology Innovation Consortium (“UTIC”) has filed written notifications simultaneously with the Attorney General and the Federal Trade Commission disclosing changes in its membership. The notifications were filed for the purpose of extending the Act's provisions limiting the recovery of antitrust plaintiffs to actual damages under specified circumstances. Specifically, Advanced Scientific Concepts LLC, Santa Barbara, CA; Analytical Graphics, Inc., Exton, PA; Ardalyst Federal LLC, Annapolis, MD; Azavea Inc., Philadelphia, PA; C-2 Innovations Inc., Stow, MA; Carillon Technologies Management, Arlington, VA; Cisco Systems Inc., San Jose, CA; Contrast Inc., Albuquerque, NM; Decisive Analytics Corporation, Arlington, VA; DRS Laurel Technologies, Johnstown, PA; EDO Western Corporation, Salt Lake City, UT; Electric Boat Corporation, Groton, CT; Falmouth Scientific Inc., Cataumet, MA; G2 Ops Inc., Virginia Beach, VA; Gavial ITC LLC, Santa Barbara, CA; GK Mechanical Systems, Brookfield, CT; GLX Power Systems Inc., Cleveland, Ohio; Hexagon US Federal Inc., Huntsville, AL; ICE ITS Inc., Ashburn, VA; L3 Communication Systems-East | L3 Technologies, Camden, NJ; Linden Photonics Inc., Westford, MA; Lyman Morse Boatbuilding, Thomaston, ME; MACSEA Ltd., Stonington, CT; Moebius Solutions, Inc., San Diego, CA; Montana State University, Bozeman, MT; NAG, LLC dba NAG Marine, Norfolk, VA; NortekUSA Inc., Boston, MA; Pacific Engineering Inc., Roca, NE; Parker Hannifin Corporation, Mayfield Heights, OH; Peregrine Technical Solutions LLC, Yorktown, VA; Prescient Edge Corporation, Mclean, VA; Product Development Associates, Burnsville, MN; Raytheon Missile Systems, Tucson, AZ; Red River Technology LLC, Claremont, NH; RPI Group Inc., Fredericksburg, VA; SeaTrac Systems, Inc., Marblehead, MA; Sonardyne Inc., Houston, TX; TDI Technologies Inc., King of Prussia, PA; The University of Southern Mississippi, Hattiesburg, MS; VACCO Industries, El Monte, CA; and, WWM Solutions LLC, Washington, DC, have been added as parties to this venture.

Also, 6Fathoms Consulting LLC, Austin, TX; Harpon Ventures LLC, Menlo Park, CA; Left of Creative LLC, Wakefield, RI; Pacific Science & Engineering Inc. (PSE), San Diego, CA; and Platron Manufacturing, Pflugerville, TX, have withdrawn as parties from this venture.

No other changes have been made in either the membership or planned activity of the group research project. Membership in this group research project remains open, and UTIC intends to file additional written notifications disclosing all changes in membership.

On October 9, 2018, UTIC filed its original notification pursuant to Section 6(a) of the Act. The Department of Justice published a notice in the Federal Register pursuant to Section 6(b) of the Act on November 2, 2018 (83 FR 55203).

The last notification was filed with the Department on January 28, 2019. A notice was published in the Federal Register pursuant to Section 6(b) of the Act on February 28, 2019 (84 FR 6823).

Suzanne Morris,
Chief, Premerger and Division Statistics Unit, Antitrust Division.

[FR Doc. 2019-17121 Filed 8-8-19; 8:45 am]

BILLING CODE 4410-11-P